DEPARTMENT OF COMMERCE

National Oceanic and Atmospheric Administration

[Docket No. 090219207-0016-02]

RIN 0648-ZC05

NOAA Coastal and Marine Habitat Restoration Project Supplemental Funding

AGENCY: National Marine Fisheries Service (NMFS), National Oceanic and Atmospheric Administration (NOAA), Commerce.

ACTION: Notice of supplemental funding for NOAA Coastal and Marine Habitat Restoration Projects.

SUMMARY: The National Marine Fisheries Service (NMFS) publishes this notice to describe how it will administer the approximately 3 percent of funding that remains from the original allocation provided to NMFS under the American Recovery and Reinvestment Act (ARRA). These funds were set aside specifically to manage and mitigate risks to the original habitat restoration investments and ensure program goals are achieved. NMFS is only accepting requests for supplemental funding from existing ARRA grantees that were awarded funds as a result of the original competition. There is the possibility that NMFS may also fund additional projects selected from the ranked list of previously reviewed proposals that was provided to the Selecting Official as part of the original competition.

DATES: Recipients of ARRA Habitat Restoration project awards may contact NMFS to discuss the process for requesting supplemental funding. Requests for supplemental funding will be considered on a rolling basis.

FOR FURTHER INFORMATION CONTACT: Melanie Gange at (301) 713-0174, or by e-mail at Melanie.Gange@noaa.gov.

SUPPLEMENTARY INFORMATION: In 2009, NMFS provided ARRA funding for 50 habitat restoration projects. These projects were selected on a competitive basis from among 814 eligible applications submitted in response to a Federal Register Notice published March 6, 2009 (74 FR 9793). Approximately 3 percent of the funding originally allocated to NMFS was held in reserve to manage and mitigate risks to these habitat restoration investments and ensure program goals for economic and ecological value are achieved. NMFS intends to award these remaining funds to its existing ARRA grantees pursuant to the priorities below and potentially to additional projects selected from the ranked list of previously reviewed proposals. No other new applications will be accepted. Requests for supplemental funding will be considered on a case-by-case basis, based on bona fide need and priorities listed herein, and not in the order in which requests are received.

Electronic Access

Current recipients of ARRA Habitat Restoration project awards should contact their Federal Program Officer at 301-713-0174, or by email, for further information regarding the process for requesting supplemental funding. Federal Program Officers and their contact information are identified in award information available to recipients in NOAA's Grants Online.

The 50 projects selected for funding as a result of the original competition can be viewed at http://www.nmfs.noaa.gov/habitat/restoration/restorationatlas/recovery_map.html.

Statutory Authority

The Secretary of Commerce is authorized under the Magnuson-Stevens Fishery Conservation and Management Reauthorization Act of 2006 (16 U.S.C. 1891a) and the Fish and Wildlife Coordination Act (16 U.S.C. 661, as amended by the Reorganization Plan No. 4 of 1970) to provide grants and cooperative agreements for habitat restoration.

Funding Availability

To meet ARRA and agency goals for accountability and risk management, approximately 3 percent of the original ARRA allocation for habitat restoration was set aside to serve as a risk margin for unforeseen changes to technical, financial, or scheduling aspects of funded restoration projects. Remaining funds will be made available primarily to existing recipients of NOAA ARRA Habitat Restoration project awards. NOAA does not guarantee that sufficient funds will be available to make awards for all supplemental requests. Publication of this document does not obligate NOAA to award funds for any specific project or to obligate all or any parts of any available funds. Funds will primarily be issued as amendments to current ARRA awards.

Eligibility

This funding is for current recipients of NOAA ARRA Habitat Restoration project awards.

Funding Priorities

NMFS expects to award remaining funds primarily to existing grantees who have met one or more of the following priorities:

• Project cost increases. NMFS acknowledges that certain existing projects may exceed projected costs due to various technical, financial, or scheduling factors unforeseen by the recipient and may require supplemental funds in order to complete the project. No contingency funds were allowed in original awards.

• Expanding ecological or economic monitoring and evaluation of select existing projects.

• Increasing the ecological impact of an existing project by allowing for additional work to be completed that is consistent with the approved scope of work or the original request.

NMFS reserves the right to fund additional projects selected from the ranked list of previously reviewed proposals that was provided to the Selecting Official as part of the original competition.

Cost-Sharing Requirements

There is no statutory matching requirement for this funding.

Evaluation and Selection Procedures

Supplemental funds will be granted primarily to current recipients of ARRA Habitat Restoration project awards through amendments specifically for cost overruns or expansion of a project as described above, in accordance with the Department of Commerce (DOC) Grants Manual. Decisions regarding which recipients will be provided with supplemental funding to further support habitat restoration activities are at the sole discretion of the Selecting Official, with final approval of the Grants Officer. Amendments will be recommended by the Selecting Official and approved by the Grants Officer without competition.

Intergovernmental Review

Applications submitted by state and local governments are subject to the provisions of Executive Order 12372, “Intergovernmental Review of Federal Programs.” Any applicant submitting an application for funding is required to complete item 16 on SF-424 regarding clearance by the State Single Point of Contact (SPOC) established as a result of EO 12372. To find out and comply with a State's process under EO 12372, the names, addresses and phone numbers of participating SPOCs are listed in the Office of Management and Budget's home page at: http://www.whitehouse.gov/omb/grants/spoc.html.

Limitation of Liability

In no event will NOAA or the Department of Commerce be responsible for proposal preparation costs if these programs fail to receive funding or are cancelled because of other agency priorities. Publication of this announcement does not obligate NOAA to award funds for any specific project or to obligate any available funds.

National Environmental Policy Act

All information regarding the National Environmental Policy Act included in the original Notification of Funding Availability (74 FR 9793) and Federal Funding Opportunity (NOAA-NMFS-HCPO-2009-2001709) apply to the award of new or supplemental funding.

Department of Commerce Pre-Award Notification Requirements for Grants and Cooperative Agreements

The Department of Commerce Pre-Award Notification Requirements for Grants and Cooperative Agreements contained in the Federal Register notice of February 11, 2008 (73 FR 7696) are applicable to this notice.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to, nor shall a person be subject to penalty for failure to comply with, a collection of information subject to the requirements of the PRA unless that collection of information displays a currently valid OMB control number.

Executive Order 12866 (Regulatory Impact Review)

This notice has been determined to be not significant for purposes of Executive Order 12866.

Executive Order 12132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are not applicable. Therefore, a regulatory flexibility analysis has not been prepared.

Dated: January 29, 2010.
James W. Balsiger,
Acting Assistant Administrator for Fisheries, National Marine Fisheries Service.

[FR Doc. 2010-2410 Filed 2-3-10; 8:45 am]

BILLING CODE 3510-22-S